NATIONAL SCIENCE FOUNDATION

Advisory Committee For Geosciences; Notice of Meeting

In accordance with the Federal Advisory Committee Act (Pub. L. 92-463, as amended), the National Science Foundation announces the following meeting:

Name: Advisory Committee for Geosciences (1755).

Dates: October 10, 2012 (8:30 a.m.-5:00 p.m.)-October 11, 2012; 8:30 a.m.-2:00 p.m.

Place: Stafford I, Room 1235, National Science Foundation, 4201Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose Of Meeting: To provide advice, recommendations, and oversight concerning support for geosciences.

Agenda

Wednesday, October 10, 2012

• Update on Directorate Activities and Plans

• Updates on NSF-wide Programmatic Efforts such as Science, Engineering and Education for Sustainability

• Meeting with the Director and Deputy Director

• Division Subcommittee Meetings

Thursday, October 11, 2012

• Division Subcommittee Reports

• Review and Approval of FY 2012 Committee of Visitor Reports

• Action Items/Planning for Fall Meeting

Dated: September 11, 2012.
Susanne Bolton,
Committee Management Officer.

[FR Doc. 2012-22750 Filed 9-14-12; 8:45 am]

BILLING CODE P